DEPARTMENT OF EDUCATION

Withdrawal of Notices Inviting Application and Cancellation of the Competitions for the Fulbright-Hays Group Projects Abroad (GPA) Program, Doctoral Dissertation Research Abroad (DDRA) Program, and Faculty Research Abroad (FRA) Fellowship Program

AGENCY: Office of Postsecondary Education, Department of Education.

ACTION: Notice; cancellation.

SUMMARY: The Department of Education (Department) withdraws the notice inviting applications (NIA) for fiscal year (FY) 2025 for the Fulbright-Hays Group Projects Abroad (GPA) Program, Doctoral Dissertation Research Abroad (DDRA) Program, and the Faculty Research Abroad (FRA) Fellowship Program.

DATES: The NIAs published in the Federal Register on October 25, 2024 (89 FR 85176)—GPA, October 20, 2024 (89 FR 86323)—DDRA, and January 8, 2025 (90 FR 1469)—FRA, are withdrawn and the competitions cancelled as of May 9, 2025.

FOR FURTHER INFORMATION CONTACT: Stacey Slijepcevic, U.S. Department of Education, 400 Maryland Avenue SW, Washington, DC 20202-5076. Telephone: (202) 453-6150. Email: stacey.slijepcevic@ed.gov.

If you are deaf, hard of hearing, or have a speech disability and wish to access telecommunications relay services, please dial 7-1-1.

SUPPLEMENTARY INFORMATION: On October 25, 2024, the Department published an NIA in the Federal Register for the FY 2025 GPA competition, Assistance Listing Number (ALN) 84.021A/B. On October 30, 2024, the Department published an NIA in the Federal Register for the FY 2025 DDRA competition, ALN 84.022A. On January 8, 2025, the Department published an NIA in the Federal Register for the FY 2025 FRA competition, ALN 84.019A. The Department is cancelling the competitions as part of a comprehensive review of recently published FY 2025 NIAs. This reevaluation seeks to ensure that all priorities and requirements for the Department's FY 2025 competitions align with the objectives established by the Trump Administration, foster consistency across all grant programs, and enhance the economic effectiveness of federal education funding.

Program Authority: 22 U.S.C. 2452(b)(6).

Intergovernmental Review: These programs are not subject to Executive Order 12372 and the regulations in 34 CFR part 79.

Accessible Format: On request to the program contact person listed under FOR FURTHER INFORMATION CONTACT, individuals with disabilities can obtain this notice and the NIAs in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site, you can view this document, as well as all other Department documents published in the Federal Register, in text or Portable Document Format (PDF). To use PDF, you must have Adobe Acrobat Reader, which is available free at the site.

You may also access Department documents published in the Federal Register by using the article search feature at www.federalregister.gov. Specifically, through the advanced search feature at this site, you can limit your search to documents published by the Department.

James Bergeron,
Acting Under Secretary (Delegated the authority to perform the functions and duties of the Assistant Secretary for Postsecondary Education).

[FR Doc. 2025-08109 Filed 5-8-25; 8:45 am]

BILLING CODE 4000-01-P